POSTAL SERVICE

39 CFR Part 265

Production or Disclosure of Material or Information; Technical Corrections

AGENCY: Postal Service™.

ACTION: Final rule.

SUMMARY: The Postal Service is revising a citation and a requirement in the Change of Address Request Format for Process Servers. An incorrect citation is corrected, and the requirement to provide a copy of the statute or regulation that empowers a requester to serve process is revised to be optional rather than mandatory.

DATES: This final rule is effective on March 6, 2018.

FOR FURTHER INFORMATION CONTACT: Natalie A. Bonanno, Chief Counsel, Federal Compliance, natalie.a.bonanno@usps.gov, 202-268-2944.

SUPPLEMENTARY INFORMATION: On November 30, 2016 (81 FR 86270), the Postal Service published its revised Freedom of Information Act (FOIA) regulations to comply with the FOIA Improvement Act of 2016 (FOIAIA), effective December 27, 2016. In response to public comments, the Postal Service published an additional change to these regulations on January 10, 2017 (82 FR 2896). After further review, the Postal Service published miscellaneous technical corrections to its regulations on March 8, 2017 (82 FR 12921). The Postal Service is now making two technical corrections to the Change of Address or Boxholder Request Format for process servers found at 39 CFR 265.14. The first revision makes the requirement to provide a copy of the statute or regulation that empowers a requester to serve process optional rather than mandatory. The second revision changes the incorrect citation 39 CFR 265.14(d)(4)(ii) to 39 CFR 265.14(d).

List of Subjects in 39 CFR Part 265

Administrative practice and procedure, Courts, Freedom of information, Government employees.

For the reasons stated in the preamble, the Postal Service amends 39 CFR part 265 as follows:

PART 265—PRODUCTION OR DISCLOSURE OF MATERIAL OR INFORMATION

1. The authority citation for part 265 continues to read as follows:

Authority: 5 U.S.C. 552; 5 U.S.C. App. 3; 39 U.S.C. 401, 403, 410, 1001, 2601; Pub. L. 114-185.

2. Section 265.14 is amended by revising the figure titled “Change of Address or Boxholder Request Format—Process Servers” to read as follows:

§ 265.14 Rules concerning specific categories of records.

* * * * *

(g) * * *

BILLING CODE 7710-12-P

* * * * *

Tracy A. Quinlan,
Attorney, Federal Compliance.

[FR Doc. 2018-04449 Filed 3-5-18; 8:45 am]

BILLING CODE 7710-12-C